DEPARTMENT OF STATE

[Public Notice 3295]

Bureau of Educational and Cultural Affairs Offices of the Fulbright Representative: Moscow, Russia and Kyiv, Ukraine; Notice: Request for Proposals

SUMMARY: The Office of Academic Exchange Programs of the Bureau of Educational and Cultural Affairs (ECA) announces an open competition for organizations to serve as the fiscal disbursing agent for the Offices of the Fulbright Representative in Moscow, Russia and in Kyiv, Ukraine. Public and private non-profit organizations meeting the provisions described in IRS regulation 26 CFR 1.501(c) may submit proposals to provide fiscal disbursing services to one or both Offices (Moscow and/or Kyiv). A separate proposal must be submitted for each country's office, i.e., organizations that apply as the disbursing agent for both the Moscow and Kyiv Offices must submit two distinct proposals addressing the particular budgetary guidelines and any other country-specific requirements for each Office as outlined in the RFP.

Program Information

Overview

The Offices of the Fulbright Representative are responsible for the overseas management of the Fulbright Program and the Junior Faculty Development Program (JFDP), both of which are ECA educational exchange programs, in the Russian Federation and Ukraine. ECA and the Public Affairs Section (PAS) of the U.S. Embassy have full authority over all program operations, policy issues, and management concerns, including the selection and supervision of the Directors of the Fulbright Offices (who are U.S. citizens) and their staffs. The staffs of the Offices of the Fulbright Representative are responsible for all program operations of the Fulbright Program and the JFDP in their respective country and report first and foremost to the PAS and ECA.

Due to legal constraints and logistical obstacles, the U.S. Government is unable to provide operating funds directly to the Offices of the Fulbright Representative in Russia and Ukraine. Thus, through this RFP, ECA requests the services of a recipient organization to be responsible solely for disbursing U.S. Government funds in support of the activities of the Offices of the Fulbright Representative. These services hinge on the organization's ability to maintain a legal status in Russia and/or Ukraine in order to serve as a fiscal agent capable of disbursing, on a timely and consistent basis, funds for the programmatic and administrative operations of the Offices. The specific duties of the ECA recipient organization requested in this RFP are outlined below.

Guidelines

The ECA recipient organization will be responsible for the following:

1. Performing all legal requirements necessary to maintain the office space, staffing, and program activities of the Fulbright Offices in Moscow and/or Kyiv.

2. Demonstrating the ability, in terms of an accounting staff knowledgeable in Russian and/or Ukrainian law, to provide the Fulbright Offices with cash (dollars and/or rubles and/or hryvna) and/or pay bills directly.

3. Providing proof of legal status/registration, as well as evidence of the ability to handle a wide range of payments.

4. Advancing budget funds to the Fulbright Offices in Moscow and/or Kyiv to conduct all activities, programmatic as well as administrative.

5. Payment of salaries and benefits—including housing allowance—for the Directors of the Fulbright Offices in Moscow and/or Kyiv. Actual salaries will be determined by the PAS.

6. Payment of salaries and benefits for local staff—including meal allowance for Moscow staff only. Actual salaries will be determined by the PAS.

7. Assisting the PAS in the recruitment of Fulbright Offices staff when vacancies occur. Final selection will be made by the PAS.

8. Consulting and cooperating, on administrative matters, with the U.S.-based organizations responsible for the administration of the Fulbright Program and the JFDP in the United States.

Programs must comply with J-1 visa regulations. Please refer to Solicitation Package for further information.

Please note: The following information is provided as background only and should not be misconstrued as the objectives of this RFP.

The Fulbright Program offers research and lecture opportunities at universities in the United States to leading scholars from Russia and Ukraine, whereas the JFDP supports the training of young university faculty from Russia and Ukraine to audit courses and work closely with faculty mentors at U.S. universities in order to upgrade their teaching skills and develop new curricula in designated fields of study. The Offices of the Fulbright Representative ensure the successful and open competition for both Fulbright and JFDP grants, and provide logistical assistance to program participants while they are in Russia or Ukraine. In addition, the Offices of the Fulbright Representative are responsible for supporting U.S. Fulbright scholars in Russia and Ukraine, in order to ensure their well being, and the well being of their dependents while overseas.

Budget Guidelines

Grants awarded to eligible organizations with less than four years of experience in conducting international exchange programs will be limited to $60,000.

Applicants must submit comprehensive budgets with each proposal. Awards may not exceed $308,000 for the Moscow Office and $210,000 for the Kyiv Office. The total of any administrative pass through charges, including indirect costs, may not exceed 15% of the total budget for each Office. There must be a summary budget as well as breakdowns reflecting both administrative and program budgets. Applicants may provide separate sub-budgets for each program component, phase, location, or activity to provide clarification.

In order to propose accurate budget figures, applicants are encouraged to contact ECA directly and request an information sheet detailing actual Fulbright Office costs.

Allowable costs include, but are not limited to:

(1) Staff salaries and benefits.

(2) Rent and utilities for the Moscow and/or Kyiv Offices.

(3) Necessary office supplies and equipment.

(4) Shipment of program materials from Russia and/or Ukraine to the United States.

(5) Maintenance of a reliable communications system (telephone, fax, and e-mail).

(6) Recruitment and any other necessary travel by program staff, including per diem.

Please refer to the Solicitation Package for complete budget guidelines and formatting instructions.

Announcement Title and Number

All correspondence with the Bureau concerning this RFP should reference the above title and number ECA/A/E/EUR 00-07.

FOR FURTHER INFORMATION CONTACT: The Office of Academic Exchange Programs, ECA/A/E/EUR, SA-44, Room 246, U.S. Department of State, 301 4th Street, S.W., Washington, D.C. 20547, telephone: 202-205-0525; fax: 202-260-7985, or E-mail: nsargent@usia.gov to request a Solicitation Package. The Solicitation Package contains detailed award criteria, required application forms, specific budget instructions, and standard guidelines for proposal preparation. Please specify Bureau Program Officer Nadine Asef-Sargent on all inquiries and correspondence.

Please read the complete Federal Register announcement before sending inquiries or submitting proposals. Once the RFP deadline has passed, Bureau staff may not discuss this competition with applicants until the proposal review process has been completed.

To Download a Solicitation Package via Internet

The entire Solicitation Package may be downloaded from the Bureau's website at http://exchanges.state.gov/education/rfps. Please read all information before downloading.

Deadline for Proposals

All proposal copies must be received at the Bureau of Educational and Cultural Affairs by 5:00 p.m. Washington, DC time on Thursday, May 25, 2000. Faxed documents will not be accepted at any time. Documents postmarked the due date but received on a later date will not be accepted. Each applicant must ensure that its proposal(s) is/are received by the above deadline. There are no exceptions to this deadline.

Applicants must follow all instructions in the Solicitation Package. The original and nine (9) unbound copies of the proposal(s) should be sent to: U.S. Department of State, SA-44, Bureau of Educational and Cultural Affairs, Ref.: ECA/A/E/EUR-00-07, Program Management, ECA/EX/PM, Room 336, 301 4th Street, SW, Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs Section at the US Embassy for its review; with the goal of reducing the time it takes to receive embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

ECA therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

The Bureau will acknowledge receipt of all proposals and will review them for technical eligibility. Proposals will be deemed ineligible if they do not fully adhere to the guidelines stated herein and in the Solicitation Package.

The program office, as well as the Public Affairs Section overseas, where appropriate will review all eligible proposals. Eligible proposals will be forwarded to panels of Bureau officers for advisory review. Proposals may also be reviewed by the Office of the Legal Adviser or by other Bureau elements. Final funding decisions are at the discretion of the Department of State's Under Secretary for Public Diplomacy and Public Affairs. Final technical authority for assistance awards (grants or cooperative agreements) resides with the Bureau's Grants Officer.

Review Criteria

Technically eligible applications will be competitively reviewed according to the criteria stated below. These criteria are not rank ordered and all carry equal weight in the proposal evaluation:

1. Program Management: Proposals should exhibit substance, precision, innovation, and relevance to the Bureau's mission. Objectives should be reasonable, feasible, and flexible. Proposals should demonstrate the organization's ability to cooperate with a variety of entities, including the U.S. Government, non-profit organizations, foreign banking institutions, and others. Relevant work plan should demonstrate substantive undertakings and logistical capacity. Work plan should adhere to the program overview and guidelines described above.

2. Support of Diversity: Proposals should demonstrate substantive support of the Bureau's policy on diversity.

3. Institution's Record/Ability: Proposed personnel and institutional resources should be adequate and appropriate to achieve the program's goals. Proposals should demonstrate an institutional record of successful exchange program administration, particularly responsible fiscal management and full compliance with all reporting requirements for any past Bureau grants as determined by Bureau Grant Staff. The Bureau will consider the past performance of prior recipients and the demonstrated potential of new applicants.

4. Cost-effectiveness/Cost-sharing: The overhead and administrative components of the proposal, including salaries, should be kept as low as possible. All other items should be necessary and appropriate.

5. Project evaluation: Proposals should include a plan to evaluate the success of the fiduciary arrangement and make recommendations for improving the process in the future.

Authority

Overall grant making authority for this program is contained in the Mutual Educational and Cultural Exchange Act of 1961, Public Law 87-256, as amended, also known as the Fulbright-Hays Act. The purpose of the Act is “to enable the Government of the United States to increase mutual understanding between the people of the United States and the people of other countries . . .; to strengthen the ties which unite us with other nations by demonstrating the educational and cultural interests, developments, and achievements of the people of the United States and other nations. * * * and thus to assist in the development of friendly, sympathetic and peaceful relations between the United States and the other countries of the world.” The funding authority for the program above is provided through legislation.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 13, 2000.
Evelyn S. Lieberman,
Under Secretary for Public Diplomacy and Public Affairs, U.S. Department of State.

[FR Doc. 00-9802 Filed 4-18-00; 8:45 am]

BILLING CODE 4710-11-P